DEPARTMENT OF TRANSPORTATION

Federal Aviation Administration

14 CFR Part 71

[Docket No. FAA-2010-0530; Airspace Docket No. 10-AWP-10]

Amendment of Class D and Class E Airspace; Kaneohe, HI

AGENCY: Federal Aviation Administration (FAA), DOT.

ACTION: Final rule, technical amendment.

SUMMARY: This action amends Class D and Class E airspace at Kaneohe Bay Marine Corps Air Station (MCAS), Kaneohe, HI. The FAA is taking this action in response to a request from the National Aeronautical Navigation Services (NANS) to update the geographic coordinates of the MCAS to aid in the navigation of our National Airspace System. This action will also change the airport's name.

DATES: Effective Date: 0901 UTC, November 18, 2010. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

The FAA received a request from NANS to better clarify the legal description of the existing Class D and Class E airspace area for the Kaneohe Bay MCAS. Specifically, the geographic coordinates of the airport need to be adjusted, and the airport name needs to be changed. This action is in response to that request.

Class D and Class E airspace designations are published in paragraph 5000, 6002 and 6005, respectively, of FAA Order 7400.9T signed August 27, 2009, and effective September 15, 2009, which is incorporated by reference in 14 CFR 71.1. The Class D and Class E airspace designations listed in this document will be published subsequently in that Order.

The Rule

This action will amend Title 14 Code of Federal Regulations (14 CFR) part 71 by amending Class D airspace, Class E surface airspace and Class E airspace upward from 700 feet above the surface at Kaneohe Bay MCAS, Kaneohe Bay, HI. The geographic coordinates of the airport will be adjusted to coincide with the FAA's National Aeronautical Navigation Services. The airport name will change from Kaneohe MCAS to Kaneohe Bay MCAS, Kaneohe, HI. This is an administrative change and does not affect the boundaries, altitudes, or operating requirements of the airspace, therefore, notice and public procedures under 5 U.S.C. 553(b) are unnecessary.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, section 106 discusses the authority of the FAA Administrator. Subtitle VII, Aviation Programs, describes in more detail the scope of the agency's authority. This rulemaking is promulgated under the authority described in subtitle VII, part A, subpart I, section 40103. Under that section, the FAA is charged with prescribing regulations to assign the use of airspace necessary to ensure the safety of aircraft and the efficient use of airspace. This regulation is within the scope of that authority as it amends controlled airspace at Kaneohe Bay MCAS, Kaneohe, HI.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9T, Airspace Designations and Reporting Points, signed August 27, 2009, and effective September 15, 2009 is amended as follows:

Paragraph 5000 Class D Airspace.

* * * * *

AWP HI D Kaneohe MCAS, HI [Amended]

Kaneohe Bay MCAS, HI

(Lat. 21°27′02″ N., long. 157°46′05″ W.)

That airspace extending upward from the surface to and including 2,500 feet MSL within a 4.3-mile radius of the Kaneohe Bay MCAS. This Class D airspace area is effective during the specific dates and times established in advance by a Notice to Airmen. The effective date and time will thereafter be continuously published in the Airport/Facility Directory, Pacific Chart Supplement.

Paragraph 6002 Class E Airspace designated as surface areas.

* * * * *

AWP HI E2 Kaneohe MCAS, HI [Modified]

Kaneohe Bay MCAS, HI

(Lat. 21°27′02″ N., long. 157°46′05″ W.)

That airspace extending upward from the surface within a 4.3-mile radius of the Kaneohe Bay MCAS. This Class E airspace area is effective during the specific dates and times established in advance by a Notice to Airmen. The effective date and time will thereafter be continuously published in the Airport/Facility Directory, Pacific Chart Supplement.

Paragraph 6005 Class E Airspace areas extending upward from 700 feet or more above the surface of the earth.

* * * * *

AWP HI E5 Kaneohe MCAS, HI [Amended]

Kaneohe Bay MCAS, HI

(Lat. 21°27′02″ N., long. 157°46′05″ W.)

That airspace extending from 700 feet above the surface beginning at lat. 21°22′59″ N., long. 157°44′30″ W., thence clockwise along the 4.3-mile radius of the Kaneohe Bay MCAS, thence to lat. 21°28′26″ N., long. 157°50′27″ W.; to lat. 21°32′15″ N., long. 157°51′07″ W., thence clockwise via the 7-mile arc of Kaneohe Bay MCAS to lat. 21°22′47″ N., long. 157°40′07″ W., thence to the point of beginning.

Issued in Seattle, Washington, on August 9, 2010.
Robert Henry,
Acting Manager, Operations Support Group, Western Service Center.

[FR Doc. 2010-20412 Filed 8-18-10; 8:45 am]

BILLING CODE 4910-13-P